DEPARTMENT OF COMMERCE

National Oceanic and Atmospheric Administration

Proposed Information Collection; Comment Request; Survey To Collect Economic Data From Recreational Anglers That Fish for Summer Flounder and Black Sea Bass in the Northeast and Mid-Atlantic States

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 13, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Scott Steinback, Economist, Northeast Fisheries Science Center, 166 Water St., Woods Hole, MA 02543. Tel: (508) 495-4701 or scott.steinback@noaa.gov.

SUPPLEMENTARY INFORMATION:

I. Abstract

This request is for a new information collection. The title will be “Understanding Anglers' Preferences for Summer Flounder and Black Sea Bass.”

The recreational fishing community and regional fisheries management councils along the Atlantic coast have requested more species-specific socio-economic and behavioral studies of recreational fishing that can be used in the analysis of fisheries policies. This survey will address that stated need for more species-specific studies by focusing on two very popular recreational species caught along the Atlantic coast from Massachusetts to North Carolina: Summer flounder and black sea bass. The objective of the survey will be to understand how anglers respond to changes in expected harvest distributions of summer flounder and black sea bass. This information is important to fisheries managers because changes in recreational fishing regulations (e.g., bag limits, size limits, season lengths, etc.) affect anglers' harvest distributions. Anglers will be asked a series of questions designed to elicit their willingness to trade off lower/higher expected catch for reduced/increased catch variability, and whether those trade-offs depend on fishing mode, trip length, trip costs, and demographic characteristics. Responses to these questions will provide the data necessary to evaluate anglers' expected catch preferences for summer flounder and black sea bass. Additional data gathered will include questions that focus on anglers' recent recreational fishing experiences, such as how often they go fishing, species targeted, and primary mode of fishing. Ultimately, the data collected from the survey will allow fisheries managers to better evaluate the socio-economic effects of proposed changes in recreational fishing regulations for summer flounder and black sea bass.

A survey sample will be drawn from the National Saltwater Angler Registry, a database of licensed recreational anglers living in the U.S. The information comes primarily from state-based saltwater fishing license and registration programs. The survey will be conducted using both mail and email to contact anglers and invite them to take the survey online. Anglers not responding to the online survey may receive a paper survey in the mail. This survey is part of a series of planned surveys across the Atlantic and Gulf coasts to gather socio-economic data on saltwater recreational anglers' preferences for different fishery management options.

II. Method of Collection

The survey will be conducted using two modes: Paper via regular mail and electronically via internet.

III. Data

OMB Control Number: 0648-xxxx.

Form Number(s): None.

Type of Review: Regular (request for a new information collection).

Affected Public: Individuals or households.

Estimated Number of Respondents: 2,000.

Estimated Time per Response: 15 minutes.

Estimated Total Annual Burden Hours: 500 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-04617 Filed 3-12-19; 8:45 am]

BILLING CODE 3510-22-P